ENVIRONMENTAL PROTECTION AGENCY

[ER-FRL-8596-4]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft environmental impact statements (EISs) was published in FR dated July 17, 2009 (74 FR 34754).

Draft EISs

EIS No. 20090048, ERP No. D-AFS-J65530-MT, Montanore Project, Proposes to Construct a Copper and Silver Underground Mine and Associated Facilities, Including a New Transmission Line, Plan-of-Operation Permit, Kootenai National Forest, Sanders County, MT.

Summary: EPA identified potential adverse environmental impacts from the preferred action to wetlands, water quality, groundwater and stream flows that are unacceptable and of sufficient magnitude that action must not proceed as proposed. In addition, the analysis of water quality impacts, and measures for mitigation, financial assurance and remediation are inadequate. Rating EU3.

EIS No. 20090098, ERP No. D-NPS-J65537-WY, Jackson Hole Airport Use Agreement Extension Project, To Enable Continued Air Transportation Services, Grand Teton National Park, Teton County, WY.

Summary: EPA expressed environmental objections to the predicted major, long-term and adverse noise impacts as well as the narrow range of alternatives and lack of an air quality analysis. EPA requested additional noise analysis and mitigation be evaluated. Rating EO2.

EIS No. 20090113, ERP No. D-AFS-J65539-00, Ashley National Forest Motorized Travel Plan, To Improve Management of Public Summer Motorized Use by Designating Roads and Motorized Trails and Limiting Dispersed Camping to Areas, Duchesne, Daggett, Uintah Counties, Utah and Sweetwater County, WY.

Summary: EPA expressed environmental concerns about water quality impacts. EPA suggested that travel management plan decisions should be based on a broader analysis of impacted resources on route designations. Rating EC1.

EIS No. 20090157, ERP No. D-AFS-J65540-WY, Upper Greys Vegetation Management Project, Proposes to Conduct Timber Harvest on 362 Acres in Upper Greys River Watershed, Greys River Ranger District, Bridger-Teton National Forest, Lincoln County, WY.

Summary: EPA expressed environmental concerns about the lack of a water quality monitoring protocol to document existing conditions and recommends the Final EIS include one to track effectiveness of the management approach. Rating EC1.

EIS No. 20090173, ERP No. D-CGD-C50017-00, Goethals Bridge Replacement Project, Construction of Bridge across the Arthur Kill between Staten Island New York and Elizabeth, New Jersey, Funding and USCG Bridge Permit, NY and NJ.

Summary: EPA expressed environmental concerns about impacts to wetlands. Rating EC1.

Final EISs

EIS No. 20090165, ERP No. F-AFS-J65515-UT, Dixie National Forest Motorized Travel Plan, Implementation, Dixie National and the Teasdale portion of the Fremont River Ranger District on the Fishlake National Forest, Garfield, Iron, Kane, Piute, Washington and Wayne Counties, UT.

Summary: EPA does not object to the proposed project.

EIS No. 20090168, ERP No. F-AFS-J65525-00, Hermosa Landscape Grazing Analysis Project, Proposes to Continue to Authorize Livestock Grazing Cascade Reservoir, Dutch Creek, Elbert Creek, Hope Creek South Fork, and Upper Hermosa Allotments, Columbine Ranger District, San Juan National Forest, LaPlata and San Juan Counties, CO.

Summary: EPA recommends the implementation plan include a more rigorous adaptive management plan with thresholds more clearly addressed. EPA also encouraged the Forest Service to consider establishing a water quality monitoring effort.

EIS No. 20090202, ERP No. F-AFS-J65524-MT, Ashland Ranger District Travel Management Project, Proposing to Designate Routes for Public Motorized Use, Ashland Ranger District, Custer National Forest, Rosebud and Power River Counties, MT.

Summary: EPA supported the preferred alternative, since it would result in reduced adverse effects from motorized routes.

EIS No. 20090204, ERP No. F-AFS-J65523-00, Sioux Ranger District Travel Management Project, To Designate the Road and Trail and Areas Suitable for Public Motorized Travel, Sioux Ranger District, Custer National Forest, Carter County of MT and Harding County of SD.

Summary: EPA supported the preferred alternative, since it would result in reduced adverse effects from motorized routes.

EIS No. 20090215, ERP No. F-AFS-J65534-MT, Miller West Fisher Project, Proposes Land Management Activities, including Timber Harvest, Access Management, Road Storage and Decommissioning, Prescribed Burning and Precommercial Thinning, Miller Creek, West Fisher Creek and the Silver Butte Fisher River, Libby Ranger District, Kootenai National Forest, Lincoln County, MT.

Summary: EPA expressed environmental concerns about erosion and sediment production/transport and associated water quality impacts during logging activities.

EIS No. 20090219, ERP No. F-USA-E11069-GA, Maneuver Center of Excellence at Fort Benning Project, Proposed Community Services, Personnel Support, Classroom Barracks, and Dining Facilities would be Constructed in three of the four Cantonment Areas, Fort Benning, GA.

Summary: EPA expressed environmental concerns about impacts to aquatic habitats, water resources, and wetlands.

Dated: August 11, 2009.
Kenneth Mittelholtz,
Deputy Director, NEPA Compliance Division, Office of Federal Activities.

[FR Doc. E9-19502 Filed 8-13-09; 8:45 am]

BILLING CODE 6560-50-P